INTERNATIONAL BOUNDARY AND WATER COMMISSION, UNITED STATES AND MEXICO

Notice of Availability of a Final Environmental Assessment and Finding of No Significant Impact for Improvements to the Mission and Common Levee Systems, in the Lower Rio Grande Flood Control Project, Located in Hidalgo County, TX

AGENCY: United States Section, International Boundary and Water Commission (USIBWC), United States and Mexico.

ACTION: Notice of Availability of Final Environmental Assessment (EA) and Finding of No Significant Impact (FONSI).

SUMMARY: Pursuant to Section 102(2)(c) of the National Environmental Policy Act of 1969; the Council on Environmental Quality Final Regulations (40 CFR parts 1500 through 1508); and the United States Section's Operational Procedures for Implementing Section 102 of NEPA, published in the Federal Register September 2, 1981, (46 FR 44083); the United States Section hereby gives notice that the Final Environmental Assessment and Finding of No Significant Impact for Improvements to the Mission and Common Levee Systems, in the Lower Rio Grande Flood Control Project, located in Hidalgo County, Texas are available.

FOR FURTHER INFORMATION CONTACT: Gilbert G. Anaya, Supervisory Environmental Protection Specialist; Environmental Management Division; United States Section, International Boundary and Water Commission; 4171 N. Mesa, C-100; El Paso, Texas 79902. Telephone: (915) 832-4702, e-mail: gilbertanaya@ibwc.state.gov.

SUPPLEMENTARY INFORMATION:

Background

The USIBWC is considering raising the 12.0-mile Mission Levee System and the 5.3-mile Common Levee System to meet current flood control requirements. The proposed action would increase the height of the levee up to 8 feet depending on location. The height increase would also result in expansion of the levee footprint by lateral extension of the structure. Levee footprint increases for both the Mission and Common Levee systems would occur within the USIBWC right-of-way and extend primarily toward the riverside of the existing levee. Along sections of the Mission Levee System, structural improvements such as slurry walls may be required in segments with seepage potential. In an approximate 1-mile reach, a mechanically stabilized earth structure would be built along the existing levee crown to avoid footprint extension beyond the existing right-of-way easements. A number of natural resources management areas are located near or adjacent to the levee system, including units of the Lower Rio Grande Valley Wildlife Refuge System and the Bentsen-Rio Grande Valley State Park.

The Environmental Assessment assesses potential environmental impacts of the Proposed Action and the No Action Alternative. Potential impacts on natural, cultural, and other resources were evaluated and mitigation measures were incorporated into the Proposed Action. A Finding of No Significant Impact was issued for the Proposed Action based on a review of the facts and analyses contained in the Environmental Assessment.

The USIBWC is authorized to construct, operate, and maintain any project or works projected by the United States of America on the Lower Rio Grande Flood Control Project (LRGFCP) as authorized by the Act of the 74th Congress, Sess. I Ch. 561 (H.R. 6453), approved August 19, 1935 (49 Stat. 660), and codified at 22 U.S.C. Section 277, 277a, 277b, 277c, and Acts amendatory thereof and supplementary thereto. The LRGFCP was constructed to protect urban, suburban, and highly developed irrigated farmland along the Rio Grande delta in the United States and Mexico.

The USIBWC, in cooperation with the TPWD, prepared this Final Environmental Assessment for the proposed action of raising the Mission and Common Levee Systems located in Hidalgo County, Texas to improve flood control. These two adjacent levee systems are part of the LRGFCP that extends approximately 180 miles from the Town of Peñitas in south Texas to the Gulf of Mexico. The Mission Levee extends approximately 12 miles along the Rio Grande, downstream from the Town of Peñitas. The Common Levee System, approximately 5.3 miles long, consists of the Common Levee and Anzalduas Dike, which connects the Common Levee to Anzalduas Dam.

Availability

Electronic copies of the Final EA and FONSI are available from the USIBWC Home Page at http://www.ibwc.state.gov.

Dated: March 16, 2007.
Susan Daniel,
General Counsel.

[FR Doc. E7-5644 Filed 3-27-07; 8:45 am]

BILLING CODE 7010-01-P